DEPARTMENT OF COMMERCE

International Trade Administration

[A-580-839]

Certain Polyester Staple Fiber From the Republic of Korea: Rescission of Antidumping Duty Administrative Review

AGENCY: Import Administration, International Trade Administration, Department of Commerce.

SUMMARY: In response to requests from interested parties, the Department of Commerce (“the Department”) initiated an administrative review of the antidumping duty order on certain polyester staple fiber from the Republic of Korea (“the Order”). The period of review is May 1, 2011, through April 30, 2012. Based on the withdrawal of requests for review, we are now rescinding this administrative review.

DATES: Effective Date: September 5, 2012.

FOR FURTHER INFORMATION CONTACT: Mahnaz Khan or Yasmin Nair, AD/CVD Operations, Office 1, Import Administration, International Trade Administration, U.S. Department of Commerce, 14th Street and Constitution Avenue NW., Washington, DC 20230; telephone: (202) 482-0914 or (202) 482-3183, respectively.

SUPPLEMENTARY INFORMATION:

Background

On May 1, 2012, the Department published in the Federal Register the notice of opportunity to request an administrative review of the Order for the period of review, May 1, 2011, through April 30, 2012.¹ On May 31, 2012, DAK Americas LLC, and Auriga Polymers, Inc. (the successor to Invista, S.a.r.L) (collectively, “Petitioners”) timely requested that the Department conduct an administrative review of the following companies: (1) Huvis Corporation (“Huvis”); (2) Woongjin Chemical Company, Ltd. (“Woongjin”); and (3) Saehan Industries, Inc. (“Saehan”).² On May 31, 2012, Woongjin and Huvis requested that the Department conduct an administrative review of their respective companies.³ Pursuant to these requests, and in accordance with 19 CFR 351.221(c)(1)(i), the Department published a notice initiating the administrative review of Huvis, Woongjin, and Saehan.⁴ Petitioners withdrew their request for an administrative review of Huvis on July 20, 2012.⁵ On July 25, 2012, Huvis withdrew its request for an administrative review.⁶ On August 1, 2012, Petitioners withdrew their requests for an administrative review of Woongjin and Saehan, and Woongjin withdrew its request.⁷

¹ See Antidumping or Countervailing Duty Order, Finding, or Suspended Investigation; Opportunity to Request Administrative Review, 77 FR 25679, 25680 (May 1, 2012).

² See Letter from Petitioners to the Department, dated May 31, 2012, at 2.

³ See Letter from Woongjin to the Department, dated May 31, 2012, at 1-2; Letter from Huvis to the Department, dated May 31, 2012, at 1-2.

⁴ See Initiation of Antidumping and Countervailing Duty Administrative Reviews and Request for Revocation in Part, 77 FR 40565, 40567 (July 10, 2012).

⁵ See Letter from Petitioners, dated July 20, 2012, at 2.

⁶ See Letter from Huvis, dated July 25, 2012, at 1-2.

⁷ See Letter from Petitioner, dated August 1, 2012, at 1-2; Letter from Woongjin, dated August 1, 2012, at 1-2.

Rescission of Review

Pursuant to 19 CFR 351.213(d)(1), the Secretary will rescind an administrative review, in whole or in part, if the parties that requested a review withdraw the request within 90 days of the date of publication of the notice of initiation of the requested review. As noted above, Petitioners withdrew their requests for review of Huvis, Woongjin, and Saehan within 90 days of the date of publication of the notice of initiation. Moreover, Huvis and Woongjin timely withdrew their requests for an administrative review of their respective companies. Therefore, in accordance with 19 CFR 351.213(d)(1), we are rescinding this review in its entirety.

Assessment

The Department will instruct U.S. Customs and Border Protection (“CBP”) to assess antidumping duties on all entries. Antidumping duties shall be assessed at rates equal to the cash deposit of estimated antidumping duties required at the time of entry, or withdrawal from warehouse, for consumption in accordance with 19 CFR 351.212(c)(1)(i). The Department intends to issue appropriate assessment instructions to CBP 15 days after the date of publication of this notice of rescission of administrative review.

Notification to Importers

This notice also serves as a final reminder to importers of their responsibility under 19 CFR 351.402(f)(2) to file a certificate regarding the reimbursement of antidumping duties prior to liquidation of the relevant entries during this review period. Failure to comply with this requirement could result in the presumption that reimbursement of antidumping duties occurred and the subsequent assessment of double antidumping duties.

Notification Regarding Administrative Protective Order

This notice serves as a final reminder to parties subject to administrative protective order (“APO”) of their responsibility concerning the return or destruction of proprietary information disclosed under an APO in accordance with 19 CFR 351.305(a)(3). Timely written notification of the return or destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: August 29, 2012.
Gary Taverman,
Senior Advisor for Antidumping and Countervailing Duty Operations.

[FR Doc. 2012-21877 Filed 9-4-12; 8:45 am]

BILLING CODE 3510-DS-P